OFFICE OF PERSONNEL MANAGEMENT

5 CFR Part 532

RIN 3206-AJ05

Prevailing Rate Systems; Change in the Survey Cycle for the Orleans, LA, Nonappropriated Fund Wage Area

AGENCY: Office of Personnel Management.

ACTION: Interim rule with request for comments.

SUMMARY: The Office of Personnel Management is issuing an interim rule that will change the timing of local wage surveys in the Orleans, Louisiana, nonappropriated fund (NAF) Federal Wage System (FWS) wage area. This change will help even out the local wage survey workload for the Department of Defense and improve the amount and quality of data it collects during local annual wage surveys in the Orleans wage area.

DATES: This interim rule is effective on April 24, 2000. The Office of Personnel must receive comments by April 24, 2000.

ADDRESSES: Send or deliver comments to Donald J. Winstead, Assistant Director for Compensation Administration, Workforce Compensation and Performance Service, Office of Personnel Management, Room 7H31, 1900 E Street NW., Washington, DC 20415-8200, or FAX: (202) 606-4264.

FOR FURTHER INFORMATION CONTACT: Jennifer Hopkins, (202) 606-2848, FAX: (202) 606-0824, or email jdhopkin@opm.gov.

SUPPLEMENTARY INFORMATION: The Department of Defense (DOD) requested that the Office of Personnel Management (OPM) change the timing of local wage surveys in the Orleans, LA, nonappropriated fund (NAF) Federal Wage System (FWS) wage area. Full-scale wage surveys currently begin in February of each odd-numbered fiscal year. Full-scale wage surveys will begin in the future in June of each even-numbered fiscal year. Under section 532.207 of title 5, Code of Federal Regulations, the scheduling of wage surveys takes into consideration the best timing in relation to wage adjustments in the principal local private enterprise establishments, reasonable distribution of workload of the lead agency, timing of surveys for nearby or selected wage areas, and scheduling relationships with other pay surveys.

DOD asked OPM to change the starting time for local wage surveys in the Orleans wage area to June of even fiscal years to help spread out its survey workload. In addition, this change will avoid annual Mardi Gras festivities in New Orleans during the month of February. DOD will next conduct a full-scale wage survey in the Orleans wage area in June 2000. DOD will update the data collected in the full-scale wage survey during a “wage change” survey in June 2001.

The Federal Prevailing Rate Advisory Committee, the national labor-management committee responsible for advising OPM on matters concerning the pay of FWS employees, recommended by consensus that we change the full-scale survey cycle for the Orleans NAF wage area from February of odd-numbered fiscal years to June of even-numbered fiscal years.

Waiver of Notice of Proposed Rulemaking and Delayed Effective Date

Under 5 U.S.C. 553(b)(3)(B), I find good cause to waive the general notice of proposed rulemaking. DOD and the local wage survey committee must begin preparations for the Orleans, LA, NAF wage area before a full-scale wage survey begins in June 2000.

Regulatory Flexibility Act

I certify that this regulation will not have a significant economic impact on a substantial number of small entities because it will affect only Federal agencies and employees.

List of Subjects in 5 CFR Part 532

Administrative practice and procedure, Freedom of information, Government employees, Reporting and recordkeeping requirements, Wages.

U.S. Office of Personnel Management.

Janice R. Lachance,
Director.

Accordingly, the Office of Personnel Management is amending 5 CFR part 532 as follows:

PART 532—PREVAILING RATE SYSTEMS

1. The authority citation for part 532 continues to read as follows:

Authority: 5 U.S.C. 5343, 5346; § 532.707 also issued under 5 U.S.C. 552.

Appendix A to Subpart B of Part 532 [Amended]

2. Appendix B to Subpart B is amended by revising under the State of Louisiana the listing of beginning month of survey from “February” to “June” and the listing of fiscal year of full-scale survey from “odd” to “even” for the Orleans NAF wage area.

[FR Doc. 00-7141 Filed 3-22-00; 8:45 am]

BILLING CODE 6325-01-P